DEPARTMENT OF TRANSPORTATION

Notice of Final Federal Agency Actions on Proposed Highway Projects in Texas

AGENCY: Texas Department of Transportation (TxDOT), Federal Highway Administration (FHWA), U.S. Department of Transportation.

ACTION: Notice of Limitation on Claims for Judicial Review of Actions by TxDOT and Federal Agencies.

SUMMARY: This notice announces actions taken by TxDOT and Federal agencies that are final. The environmental review, consultation, and other actions required by applicable Federal environmental laws for these projects are being, or have been, carried-out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is 150 days from the date of publication. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: The environmental review, consultation, and other actions required by applicable Federal environmental laws for these projects are being, or have been, carried-out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting TxDOT at the address provided above.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377](Section 404, Section 401, Section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. FM 1515 from Masch Branch Street to Bonnie Brae Street in Denton County, Texas. The proposed project would reconstruct the existing undivided two-lane roadway to a median separated six-lane roadway. The proposed project would include replacement of the existing bridge structures over Dry Fork Hickory Creek, the KCS railroad, and IH 35W. The total project length is approximately 2.1 miles. The purpose of the proposed project to enhance safety and mobility and mitigate future increases in traffic associated with projected growth. The actions by TxDOT and Federal agencies and the laws under which such actions were taken are described in the Categorical Exclusion Determination issued on August 4, 2020, and other documents in the TxDOT project file. The Categorical Exclusion Determination and other documents in the TxDOT project file are available by contacting TxDOT at the address provided above or the TxDOT Dallas District Office at 4777 E. Highway 80, Mesquite, TX 75150; telephone: (214) 320-4480.

2. Rudeloff Road from SH 46 to Huber Road, Guadalupe County, Texas. The project would expand the existing two-lane roadway to a four-lane roadway with a continuous center left turn lane and bicycle and pedestrian accommodations. The project is approximately 1.5 miles in length. The actions by TxDOT and Federal agencies and the laws under which such actions were taken are described in the Categorical Exclusion Determination issued on August 13, 2020 and other documents in the TxDOT project file. The Categorical Exclusion Determination and other documents in the TxDOT project file are available by contacting TxDOT at the address provided above or the TxDOT San Antonio District Office at 4615 NW Loop 410, San Antonio, TX 78229; telephone: (210) 615-5839.

3. Bonnie Brae Street from Windsor Drive to US 77 in Denton County, Texas. The proposed project would widen the existing two/four-lane undivided roadway to a four-lane divided roadway. Near the northern limit of the proposed project, from approximately 1,670 feet south of US 77 to US 77, the roadway would be widened from a two-lane undivided roadway to a four-lane divided roadway. The total project length is approximately one mile. The purpose of the proposed project to improve operations of the roadway, increase mobility, and enhance safety. The actions by TxDOT and Federal agencies and the laws under which such actions were taken are described in, the Categorical Exclusion Determination issued on August 18, 2020, and other documents in the TxDOT project file. The Categorical Exclusion Determination and other documents in the TxDOT project file are available by contacting TxDOT at the address provided above or the TxDOT Dallas District Office at 4777 E. Highway 80, Mesquite, TX 75150; telephone: (214) 320-4480.

4. State Highway (SH) 72 from Farm to Market (FM) 237 to United States (US) 87 in DeWitt County, Texas. The proposed project would widen SH 72 from a two-lane roadway to a four-lane highway between the towns of Yorktown and Cuero in DeWitt County, Texas. The project would be approximately 14.0 miles long. The purpose of the project is to provide a safer corridor for the traveling public through the area. The actions by TxDOT and Federal agencies and the laws under which such actions were taken are described in the Categorical Exclusion Determination issued on August 24, 2020, and other documents in the TxDOT project file. The Categorical Exclusion Determination and other documents in the TxDOT project file are available by contacting TxDOT at the address provided above or the TxDOT Yoakum District Office at 403 Huck St., Yoakum, TX 77995; telephone: (361) 293-4436.

5. Interstate Highway (IH) 10 from Farm to Market (FM) 2761 to United States (US) 90, in Colorado County, Texas. The proposed project would expand IH 10 to a six-lane roadway, which includes: three 12-foot wide main lanes in each direction, 12-foot inside and outside shoulders, and two 12-foot wide, one-way frontage lanes in each direction. The project would extend for approximately 11 miles east of the city of Columbus in Colorado County, Texas. The purpose of the project is to increase the capacity of the roadway to alleviate traffic congestion and provide a safer traveling corridor for the public. The actions by TxDOT and Federal agencies and the laws under which such actions were taken are described in the Categorical Exclusion Determination issued on September 24, 2020, and other documents in the TxDOT project file. The Categorical Exclusion Determination and other documents in the TxDOT project file are available by contacting TxDOT at the address provided above or the TxDOT Yoakum District Office at 403 Huck St., Yoakum, TX 77995; telephone: (361) 293-4436.

6. Gattis School Road from Via Sonoma Trail to Red Bud Lane, in Williamson County, Texas. The project will widen Gattis School Road from an existing 4-lane undivided roadway to a 6-lane divided urban roadway with a raised median. The project is approximately 1.01 miles in length. The actions by TxDOT and Federal agencies and the laws under which such actions were taken are described in the Categorical Exclusion Determination issued on October 20, 2020 and other documents in the TxDOT project file. The Categorical Exclusion Determination and other documents in the TxDOT project file are available by contacting TxDOT at the address provided above or the TxDOT Austin District Office at 7901 North I-35, Austin, TX 78753; telephone: (512) 832-7000.

7. IH 10 Widening, from 0.22 miles west of FM 1905 (Antonio St.) to SH 20 (Mesa St.), in El Paso County, Texas. The proposed widening project is approximately 11.2 miles in length. The Texas Department of Transportation El Paso District proposes to reconstruct and widen the existing roadway to improve capacity, operation, circulation, and safety on IH 10. The proposed project would reconstruct, upgrade, and widen IH 10 from a 4-lane divided roadway to a 6-lane divided roadway. The frontage roads between State Loop 375 and Mesa Street would be reconstructed in place to meet urban design criteria. The actions by TxDOT and Federal agencies and the laws under which such actions were taken are described in the Categorical Exclusion Determination issued on October 22, 2020, and other documents in the TxDOT project file. The Categorical Exclusion Determination and other documents in the TxDOT project file are available by contacting TxDOT at the address provided above or the TxDOT El Paso District Office at 13301 Gateway West, El Paso, TX 79928; telephone: (915) 790-4341.

8. SL 288 From IH 35W to IH 35 in Denton County, Texas. The proposed project would construct a four-lane new location frontage road system for SL 288 from IH 35W south of Denton to IH 35 north of Denton. SL 288 currently does not exist west of IH 35 where the proposed project is located. The proposed project would consist of two frontage road lanes in each direction and sidewalks along both sides of the road, with a median that would accommodate the future construction of an ultimate mainlane facility. The distance of the proposed project is approximately 9.0 miles. The purpose of the proposed project is to address local policies, improve mobility, accommodate future traffic demand, and improve safety in and around the west side of Denton. The actions by TxDOT and Federal agencies and the laws under which such actions were taken are described in the Final Environmental Assessment (EA) approved on August 21, 2020, Finding of No Significant Impact (FONSI) issued on September 25, 2020 and other documents in the TxDOT project file. The EA, FONSI, and other documents are available by contacting TxDOT at the address provided above or the TxDOT Dallas District Office at 4777 E. Highway 80, Mesquite, TX 75150; telephone: (214) 320-4480.

9. SH 31 from SL 323 to FM 1639 in Gregg and Smith Counties, Texas. The purpose of the proposed project is to improve safety and connectivity on SH 31 between the cities of Tyler and Kilgore by widening the road to a four-lane highway with two 12-foot travel lanes in each direction, a variable center median, shoulders, and curb and gutter in portions of the project. The proposed project length is approximately 20 miles. The actions by TxDOT and Federal agencies and the laws under which such actions were taken are described in the Final Environmental Assessment (EA) approved on October 13, 2020, the Finding of No Significant Impact (FONSI) issued on October 15, 2020, and other documents in the TxDOT project file. The EA, FONSI, and other documents in the TxDOT project file are available by contacting TxDOT at the address provided above or the TxDOT Tyler District Office at 2709 W. Front St., Tyler, TX 75702; telephone: (903) 510-9100.

10. Loop 88 Segments 1 and 2, from US 84 in Shallowater to US 62/82, in Lubbock County, Texas. TxDOT plans to construct Loop 88 by converting existing rural roadways to an access-controlled six-lane freeway with frontage roads and ramps. Interchanges will be developed at designated cross streets. For Segment 1, the frontage roads would start at US 84 while the mainlanes would begin approximately 0.97 mile west of US 84. Segment 2 would end approximately 0.48 mile northwest of US 62/82. This project is approximately 16 miles in length and will improve transportation infrastructure to current design standards and improve mobility in western and southwestern Lubbock and Lubbock County. The actions by TxDOT and Federal agencies and the laws under which such actions were taken are described in the Final Environmental Assessment (EA) approved on September 18, 2020, the Finding of No Significant Impact (FONSI) issued on October 26, 2020, and other documents in the TxDOT project file. The EA, FONSI, and other documents in the TxDOT project file are available by contacting TxDOT at the address provided above or the TxDOT Lubbock District Office at 135 Slaton Road, Lubbock, Texas 79404, telephone: (806) 748-4472.

11. Loop 88 Segment 4, from 0.5 miles east of US 87 to US 84 in Slaton, in Lubbock County, Texas. TxDOT plans to construct Loop 88 by converting existing rural roadways to an access-controlled six-lane freeway with frontage roads and ramps. Portions of the proposed project will follow existing facilities, including FM 1585 for approximately 0.96 mile, and CR 7500 for 3.98 miles. The remainder of the proposed project is on new location. Interchanges will be developed at designated cross streets. This project is approximately 8.8 miles in length and will improve transportation infrastructure to current design standards and improve mobility in southeastern Lubbock County. The actions by TxDOT and Federal agencies and the laws under which such actions were taken are described in the Final Environmental Assessment (EA) approved on September 18, 2020, the Finding of No Significant Impact (FONSI) issued on October 26, 2020, and other documents in the TxDOT project file. The EA, FONSI, and other documents in the TxDOT project file are available by contacting TxDOT at the address provided above or the TxDOT Lubbock District Office at 135 Slaton Road, Lubbock, Texas 79404, telephone: (806) 748-4472.

(Authority: 23 U.S.C. 139(l)(1))

Michael T. Leary,
Director, Planning and Program Development, Federal Highway Administration.

[FR Doc. 2020-27611 Filed 12-17-20; 8:45 am]

BILLING CODE 4910-22-P